DEPARTMENT OF DEFENSE

Department of the Army; Corps of Engineers

Intent To Hold North Dakota Task Force Meeting as Established by the Missouri River Protection and Improvement Act of 2000 (Title VII)

AGENCY: Department of the Army, U.S Army Corps of Engineers, DoD.

ACTION: Notice of meeting.

SUMMARY: The duties of the Task Force are to prepare and approve a plan for the use of the funds made available under Title VII to promote conservation practices in the Missouri River watershed, control and remove sediment from the Missouri River, protect recreation on the Missouri River from sedimentation, and protect Indian and non-Indian historical and cultural sites along the Missouri River from erosion.

DATES: North Dakota Missouri River Task Force established by the Missouri River Protection and Improvement Act of 2000 will hold a meeting on February 28th from 9:30 a.m. to 12:30 p.m.

ADDRESSES: The meeting will be held at the Best Western Doublewood Inn located at 1400 East Interchange Avenue in Bismarck, ND.

FOR FURTHER INFORMATION CONTACT: Gwyn M. Jarrett at (402) 995-2717.

SUPPLEMENTARY INFORMATION: The objectives of the Task Force are to prepare and approve a plan for the use of the funds made available under Title VII, develop and recommend to the Secretary of the Army ways to implement critical restoration projects meeting the goals of the plan, and determine if these projects primarily benefit the Federal Government. Written requests may be sent to Gwyn M. Jarrett, U.S. Army Corps of Engineers, 1616 Capitol Avenue, Omaha, NE 68102-4901.

Dated: January 6, 2012.
Gwyn M. Jarrett,
Project Manager.

[FR Doc. 2012-1196 Filed 1-20-12; 8:45 am]

BILLING CODE 3720-58-P